NATIONAL SCIENCE FOUNDATION

Business and Operations Advisory Committee; Notice of Meeting

In accordance with the Federal Advisory Committee Act (Pub. L. 92-463, as amended), the National Science Foundation announces the following meeting:

Name: Business and Operations Advisory Committee (9556).

Date/Time: April 8, 2003; 8 a.m. to 5:30 p.m. (e.s.t.).

Place: National Science Foundation, 4201 Wilson Boulevard, Room 1235, Arlington, VA.

Type of Meeting: Open.

Contact Person: Mary Ann Birchett, National Science Foundation, 4201 Wilson Boulevard, Arlington, VA 22230 (703) 292-8100.

Purpose of Meeting: To provide advice concerning issues related to the oversight, integrity, development and enhancement of NSF's business operations.

Agenda: April 8, 2003.

A.M.: Introductions and Updates—Office of Budget, Finance, and Award Management and Office of Information and Resource Management activities.

Presentation and Discussion—NSTC Sub-Committee on Research Business Models; Information Technology Security.

P.M.: Presentation and Discussion—Emergency Preparedness: Meeting with NSF Deputy Director; Committee Discussion; Planning for next meeting; feedback; other business.

Dated: March 11, 2003.
Susanne Bolton,
Committee Management Officer.

[FR Doc. 03-6225 Filed 3-14-03; 8:45 am]

BILLING CODE 7555-01-M